DEPARTMENT OF TRANSPORTATION

Surface Transportation Board

[STB Finance Docket No. 33987]

Henry G. Hohorst, Bruce Hohorst, Joan D. Hohorst, and Anthony M. Linn—Continuance in Control Exemption—SCTRR, LLC

Henry G. Hohorst, Bruce Hohorst, Joan D. Hohorst, and Anthony M. Linn, individuals (applicants), have filed a verified notice of exemption to continue in control of the SCTRR, LLC (SCTRR), a limited liability company, after it acquires the operating authority on the Centerville Branch between Dickson and Hohenwald, TN.

According to the verified notice of exemption, the parties expected SCTRR to purchase the right to operate over the Centerville Branch after approval or exemption of that transaction. The earliest the transaction could have been consummated was January 2, 2001, the effective date of the exemption (7 days after the exemption was filed).

This transaction is related to STB Finance Docket No. 33986, SCTRR, LLC—Operation Exemption—South Central Tennessee Railroad Corp., wherein SCTRR will acquire the operating authority on the Centerville Branch from the South Central Tennessee Railroad Corp.

Applicants own a controlling interest in South Central Rail Group, Inc., which controls the West Tennessee Railroad Corp., which operates the West Tennessee Railroad line in the State of Tennessee, and the IRW Railway, LLC, which holds title to the West Tennessee Railroad line. Applicants, through South Central Rail Group, Inc., also own a controlling interest in the Tennken Railroad Corp., which operates in the States of Tennessee and Kentucky. According to applicants, the three railroads do not connect and there are no plans to connect them. The transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 33987, must be filed with the Surface Transportation Board, Office of the Secretary, Case Control Unit, 1925 K Street, NW., Washington, DC 20423-0001. In addition, a copy of each pleading must be served on John F. McHugh, Esq., McHugh & Barnes, P.C., 20 Exchange Place, New York, NY 10005.

Board decisions and notices are available on our website at “www.stb.dot.gov.”

Decided: January 5, 2001.
By the Board, David M. Konschnik, Director, Office of Proceedings.
Vernon A. Williams,
Secretary.

[FR Doc. 01-956 Filed 1-11-01; 8:45 am]

BILLING CODE 4915-00-P